DEPARTMENT OF AGRICULTURE

Food Safety and Inspection Service

[Docket No. 04-007N]

National Advisory Committee on Meat and Poultry Inspection

AGENCY: Food Safety and Inspection Service, USDA.

ACTION: Notice of public meeting.

SUMMARY: The National Advisory Committee on Meat and Poultry Inspection (NACMPI) will hold a public meeting on June 2-3, 2004, to review and discuss the following issues: (1) The appropriateness of the Food Safety and Inspection Service's (FSIS) plans for assessing the effects of the interim final rule on the control of Listeria monocytogenes (Lm) in ready-to-eat meat and poultry products; (2) the advisability of requiring establishments to develop food security plans; and (3) the appropriateness of FSIS establishing test and hold procedures for meat and poultry products that are tested for the presence of an adulterant by FSIS. Three subcommittees will also meet on June 2, 2004, to work on the issues discussed during the full committee session.

DATES: The full Committee will hold a public meeting on Wednesday, June 2, from 8:30 a.m. to 2:30 p.m. and on Thursday, June 3, 2004, from 8:30 a.m. to 12:45 p.m. Subcommittees will hold open meetings on Wednesday, June 2, 2004, from 2:45 p.m. to 5:30 p.m.

Note: FSIS was not able to publish notification of this public meeting in the Federal Register at least 15 days prior to the meeting, as required by Departmental Regulation 1041-001, due to late changes to the agenda.

ADDRESSES: All Committee meetings will take place at the Hilton Alexandria Old Town, 1767 King Street, Alexandria, VA 22314.

A meeting agenda is available on the Internet at http://www.fsis.usda.gov/about/nacmpi/index.asp, which is a sub-web page of the FSIS home page, at http://www.fsis.usda.gov/index.asp. FSIS invites interested persons to submit comments on the topics to be discussed at the public meeting. Comments may be submitted by any of the following methods:

• Mail, including floppy disks or CD-ROM's, and hand-or courier-delivered items: Send to Docket Clerk, U.S. Department of Agriculture, Food Safety and Inspection Service, 300 12th Street, SW., Room 102 Cotton Annex, Washington, DC 20250.

• Federal eRulemaking Portal: Go to http://www.regulations.gov. Follow the online instructions at that site for submitting comments.

All submissions received must include the Agency name and docket number 04-007N.

All comments submitted on the topics to be discussed at the public meeting will be available for public inspection in the FSIS Docket Room at the address listed above between 8:30 a.m. and 4:30 p.m., Monday through Friday. The comments also will be posted on the Agency's Web site at http://www.fsis.usda.gov/regulations/2004_notices_index/index.asp.

FOR FURTHER INFORMATION CONTACT: Mr. Robert Tynan for technical information at (202) 720-2982 or e-mail robert.tynan@fsis.usda.gov and Ms. Sonya L. West for meeting information at (202) 690-1079, FAX (202) 690-6519, or e-mail sonya.west@fsis.usda.gov. Members of the public will be required to register before entering the meeting. Persons requiring a sign language interpreter or other special accommodations should notify Ms. West no later than May 28, 2004, at the above numbers or by e-mail. Information is also available on the Internet at http://www.fsis.usda.gov/about/nacmpi/index.asp.

SUPPLEMENTARY INFORMATION:

Background

On April 15, 2003, the Secretary of Agriculture renewed the charter for the National Advisory Committee on Meat and Poultry Inspection (NACMPI). The Committee provides advice and recommendations to the Secretary of Agriculture pertaining to the Federal and State meat and poultry inspection programs, pursuant to sections 7(c), 24, 205, 301(a)(3), 301(a)(4), and 301(c) of the Federal Meat Inspection Act (21 U.S.C. 607(c), 624, 645, 661(a)(3), 661(a)(4), and 661(c)) and sections 5(a)(3), 5(a)(4), 5(c), 8(b), and 11(e) of the Poultry Products Inspection Act (21 U.S.C. 454(a)(3), 454(a)(4), 454(c), 457(b), and 460(e)).

The Administrator of the Food Safety and Inspection Service (FSIS) is the chairperson of the Committee. Membership of the Committee is drawn from representatives of consumer groups; producers, processors and marketers from the meat and poultry industry; state government officials; and academia. The current members of the NACMPI are: Ms. Deanna Baldwin, Maryland Department of Agriculture; Dr. Gladys Bayse, Spelman College; Dr. David Carpenter, Southern Illinois University; Dr. James Denton, University of Arkansas; Mr. Kevin Elfering, Minnesota Department of Agriculture; Ms. Sandra Eskin, American Association of Retired Persons; Mr. Michael Govro, Oregon Department of Agriculture; Dr. Joseph Harris, Southwest Meat Association; Dr. Jill Hollingsworth, Food Marketing Institute; Dr. Alice Johnson, National Turkey Federation; Mr. Michael Kowalcyk, Safe Tables Our Priority; Dr. Irene Leech, Virginia Citizens Consumer Council; Mr. Charles Link, Cargill Meat Solutions; Dr. Catherine Logue, North Dakota State University; and Mr. Mark Schad, Schad Meats. The Committee has three subcommittees to deliberate on specific issues and make recommendations to the Committee.

One of the issues to be discussed at the meeting will be FSIS's interim final rule on the control of Listeria monocytogenes (Lm) in ready-to-eat meat and poultry products (68 FR 34207, June 6, 2003). FSIS is interested in learning the Committee's opinion of the Agency's efforts to assess the effectiveness of the interim final rule. The Committee will also examine whether the Agency should require that establishments develop food security plans. Finally, the Committee will consider whether FSIS should require test and hold procedures for meat and poultry products that are subjected to verification testing for the presence of an adulterant by the Agency.

All interested parties are welcome to attend the meetings and to submit written comments and suggestions concerning issues the Committee will review and discuss. The comments and the official transcript of the meeting, when they become available, will be kept in the FSIS Docket Room at the address provided above. All comments received in response to this notice will be considered part of the public record and will be available for viewing in the FSIS Docket Room between 8:30 a.m. and 4:30 p.m., Monday through Friday, except for Federal holidays.

Additional Public Notification

Public awareness of all segments of rulemaking and policy development is important. Consequently, in an effort to better ensure that the public and in particular that minorities, women, and persons with disabilities are aware of this notice, FSIS will announce it on-line through the FSIS Web page located at http://www.fsis.usda.gov and through the Regulations.gov Web site. The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

Barbara J. Masters,
Acting Administrator.

[FR Doc. 04-11567 Filed 5-18-04; 2:07 pm]

BILLING CODE 3410-DM-P